DEPARTMENT OF THE INTERIOR

National Park Service

[NPS-NER-RICH-18665; PS.SRICH0026.00.1]

Minor Boundary Revision at Richmond National Battlefield Park

AGENCY: National Park Service, Interior.

ACTION: Notification of boundary revision.

SUMMARY: The boundary of Richmond National Battlefield Park is modified to include 165.69 acres of land, more or less, located in Henrico County, Virginia, consisting of four parcels immediately adjoining the boundary of Richmond National Battlefield Park. Subsequent to the proposed boundary revision, the National Park Service will acquire the lands by purchase from The Civil War Preservation Trust, a nonprofit conservation organization.

DATES: The effective date of this boundary revision is September 9, 2015.

ADDRESSES: The map depicting this boundary revision is available for inspection at the following locations: National Park Service, Land Resources Program Center, Northeast Region, New England Office, 115 John Street, 5th Floor, Lowell, MA 01852, and National Park Service, Department of the Interior, 1849 C Street NW., Washington, DC 20240.

FOR FURTHER INFORMATION CONTACT: Deputy Realty Officer Rachel McManus, National Park Service, Land Resources Program Center, Northeast Region, New England Office, 115 John Street, 5th Floor, Lowell, MA 01852, telephone (978) 970-5260.

SUPPLEMENTARY INFORMATION: Notice is hereby given that, pursuant to 54 U.S.C. 100506(c), the boundary of Richmond National Battlefield Park is modified to include four adjoining tracts containing 165.69 acres of land. The boundary revision is depicted on Map No. 367/127333, dated November 24, 2014.

54 U.S.C. 100506(c) provides that, after notifying the House Committee on Natural Resources and the Senate Committee on Energy and Natural Resources, the Secretary of the Interior is authorized to make this boundary revision upon publication of notice in the Federal Register. The Committees have been notified of this boundary revision. This boundary revision and subsequent acquisition will ensure preservation and protection of the battlefield park's scenic and historic resources.

Dated: July 14, 2015.
Gay E. Vietzke,
Deputy Regional Director, Northeast Region.

[FR Doc. 2015-22691 Filed 9-8-15; 8:45 am]

BILLING CODE 4310-WV-P